DEPARTMENT OF ENERGY

Federal Energy Regulatory Commission

[Docket No. EL03-207-001, et al.]

PJM Interconnection, L.L.C., et al.; Electric Rate and Corporate Filings

July 24, 2003.

The following filings have been made with the Commission. The filings are listed in ascending order within each docket classification.

1. PJM Interconnection, L.L.C.

[Docket No. EL03-207-001]

Take notice that on July 22, 2003, PJM Interconnection, LLC (PJM) tendered for filing with the Federal Energy Regulatory Commission (Commission) revised tariff sheets in compliance with the Commission's July 14, 2003 “Order on Complaint” issued in Outback Power Marketing, Inc. v. PJM Interconnection, L.L.C., 104 FERC ¶ 61,079 (2003), to incorporate its credit policy in its Tariff.

PJM states that the tariff sheets bear a July 14, 2003 effective date, consistent with the Commission's Order.

PJM states that copies of this filing have been served on all PJM members and utility regulatory commissions in the PJM region and on all parties listed on the official service list compiled by the Secretary in this proceeding.

Comment Date: August 12, 2003.

2. New York Independent System Operator, Inc.

[Docket No. ER03-766-001]

Take notice that on July 21, 2003, the New York Independent System Operator, Inc. (NYISO) filed compliance revisions to its Open Access Transmission Tariff and its Market Administration and Control Area Services Tariff pertaining to the mechanism by which the NYISO pricing rules will reflect actions taken by the NYISO to minimize or prevent an actual shortage condition to meet load and reserves.

The NYISO states it has served a copy of this filing to all persons on the official service list for Docket No. ER03-766-000. The NYISO states it has also served copies of this filing upon all parties that have executed service agreements under the NYISO's Open Access Transmission Tariff or the Market Administration and Control Area Services Tariff and upon the New York State Public Service Commission.

Comment Date: August 11, 2003.

3. Illumina Energy Solutions, Inc.

[Docket No. ER03-876-000]

Take notice that on July 22, 2003, Illumina Energy Solutions, Inc. (Illumina Energy) submitted an amendment to its petition originally filed on May 27, 2003 for acceptance of Illumina Energy Solutions, Inc. FERC Electric Tariff Original Volume No. 1; the granting of certain blanket approvals, including the authority to sell electricity at market-based rates; and the waiver of certain Commission regulations.

Illumina Energy states that it intends to engage in wholesale electric power and energy purchases and sales as a marketer. Illumina Energy also states that it is not in the business of generating or transmitting electric power.

Comment Date: August 12, 2003.

4. Puget Sound Energy, Inc.

[Docket No. ER03-919-001]

Take notice that on July 21, 2003, Puget Sound Energy, Inc. (Puget) tendered for filing an amendment to its filing of June 4, 2003 submitting Amendment No. 3 to the Exchange and Transfer Agreement between Puget and the City of Seattle, acting by and through its City Light Department (the City) Puget states that a copy of the filing was served upon the City.

Comment Date: August 11, 2003.

5. Puget Sound Energy, Inc.

[Docket No. ER03-921-001]

Take notice that on July 21, 2003, Puget Sound Energy, Inc. (Puget) tendered for filing an amendment to its filing of June 4, 2003 submitting an unsigned Interconnection Agreement Amendment between Puget and the City of Seattle, acting by and through its City Light Department (the City).

Puget states that a copy of the filing was served upon the City.

Comment Date: August 11, 2003.

6. New England Power Pool

[Docket No. ER03-1089-001]

Take notice that on July 21, 2003, the New England Power Pool (NEPOOL) amended its July 18, 2003 filing submitting the Ninety-Seventh Agreement Amending New England Power Pool Agreement, which NEPOOL states updates and corrects certain information in section 25D of the Restated NEPOOL Open Access Transmission Tariff and in Attachments G and G-1 and the accompanying Addendum of the NEPOOL Tariff. NEPOOL states that the amendment is being filed to include tariff sheets that were inadvertently omitted from their initial filing.

NEPOOL states that copies of these materials were sent to the NEPOOL Participants, Non-Participant Transmission Customers and the and the New England state governors and regulatory commissions.

Comment Date: August 11, 2003.

7. Pacific Gas and Electric Company

[Docket No. ER03-1091-000]

Take notice that on July 21, 2003, Pacific Gas and Electric Company (PG&E) tendered for filing Generator Special Facilities Agreements (GSFAs) and Generator Interconnection Agreements (GIAs) between PG&E and the following parties: Wellhead Power Panoche, LLC (Wellhead Panoche); Wellhead Power Gates, LLC (Wellhead Gates); CalPeak Power—Vaca Dixon, LLC (CalPeak Vaca Dixon); High Winds, LLC (High Winds); Energy Transfer—Hanover Ventures, LP (Hanover); and Duke Energy Morro Bay LLC (Duke Morro Bay) PG&E has requested certain waivers. PG&E states that copies of this filing have been served upon Wellhead Panoche, Wellhead Gates, CalPeak Vaca Dixon, High Winds, Hanover, Duke Morro Bay, the California Independent System Operator Corporation and the CPUC.

Comment Date: August 11, 2003.

8. Southern California Edison Company

[Docket No. ER03-1093-000]

Take notice that on July 21, 2003, Southern California Edison Company (SCE), tendered for filing a Service Agreement For Wholesale Distribution Service under SCE's Wholesale Distribution Access Tariff and an Interconnection Facilities Agreement (Agreements) between SCE and the City of Rancho Cucamonga (Rancho Cucamonga), California. SCE requests the Agreements become effective on July 22, 2003.

SCE states that the Agreements specify the terms and conditions under which SCE will provide wholesale Distribution Service from the California Independent System Operator Controlled Grid at the Etiwanda Generating Station 220 kV bus to a new 66 kV substation to be located at the northeast corner of Rochester Avenue and Stadium Parkway in the City of Rancho Cucamonga.

SCE states that copies of this filing were served upon the Public Utilities Commission of the State of California and Corona.

Comment Date: August 11, 2003.

9. Southern California Edison Company

[Docket Nos. ER03-1094-000 and EL03-214-000]

Take notice that on July 21, 2003, Southern California Edison Company (SCE) tendered for filing a Petition for Declaratory Order and Request for Expedited Treatment, or, in the Alternative, Filing a New Tariff for Scheduling Coordinator Service under section 205 of the Federal Power Act. SCE seeks a declaratory order from the Federal Energy Regulatory Commission (FERC) declaring that SCE is not obligated to serve as Scheduling Coordinator for Los Angeles Department of Water and Power (LADWP) under the Los Angeles-Edison Exchange Agreement. In the alternative, SCE requests that FERC accept, pursuant to section 205 of the Federal Power Act, the Southern California Edison Scheduling Coordinator Services Tariff filed concurrently. The tariff proposes to pass-through the ISO charges incurred in providing scheduling coordinator service under the tariff.

SCE states that copies of this filing were served upon the Public Utilities Commission of the State of California and LADWP.

Comment Date: August 11, 2003.

10. PacifiCorp

[Docket No. ER03-1095-000]

Take notice that on July 21, 2003, PacifiCorp, tendered for filing in accordance with 18 CFR 35 of the Commission's Rules and Regulations, PacifiCorp's First Revised FERC Rate Schedule No. 306, the amended Long-Term Power Transactions Agreement between PacifiCorp and Arizona Public Service Company.

PacificCorp states that copies of this filing were supplied to the Public Utility Commission of Oregon and the Washington Utilities and Transportation Commission.

Comment Date: August 11, 2003.

11. Megawatt Marketing, LLC

[Docket No. ER03-1096-000]

Take notice that on July 21, 2003, Megawatt Marketing, LLC (Megawatt Marketing) submitted for filing a Notice of Cancellation of it market-based rate tariff.

Megawatt Marketing states that it has not used the market-based rate authority and does not foresee entering into contracts to sell power or engage in wholesale electric power and energy purchases and sales as a marketer.

Comment Date: August 11, 2003.

12. Northeast Utilities Service Company

[Docket No. ER01-1261-001]

Take notice that on July 21, 2003, the Northeast Utilities Service Company (NUSCO) on behalf of The Connecticut Light and Power Company (CL&P), filed for acceptance an executed Licensing, Engineering and Construction Agreement and an executed Interconnection and Operating Agreement between CL&P and Milford Power Company LLC (Milford), each relating to the interconnection of Milford's 560 MW combined cycle power plant to CL&P's transmission system (the Agreements).

NUSCO states that a copy of this filing has been mailed to Milford. NUSCO has requested a July 21, 2003 effective date for the Agreements, and has requested any waivers of the Commission's regulations that may be necessary to permit such an effective date.

Comment Date: August 11, 2003.

13. Fall River Rural Electric Cooperative, Inc.

[Docket No. ES03-40-000]

Take notice that on July 18, 2003, Fall River Rural Electric Cooperative, Inc. (Fall River) submitted an application pursuant to section 204 of the Federal Power Act seeking authorization to borrow no more than $13,769,232 under a master loan agreement with the National Rural Utilities Cooperative Finance Corporation.

Fall River also requests a waiver from the Commission's competitive bidding and negotiated placement requirements at 18 CFR 34.2.

Comment Date: August 13, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-19680 Filed 8-1-03; 8:45 am]

BILLING CODE 6717-01-P